DEPARTMENT OF ENERGY

Federal Energy Regulatory Commission

[Project No. 13011-003]

Shelbyville Hydro LLC; Notice of Availability of Environmental Assessment

In accordance with the National Environmental Policy Act of 1969 and the Federal Energy Regulatory Commission's (Commission or FERC) regulations, 18 Code of Federal Regulations (CFR) Part 380 (Order No. 486, 52 Federal Register 47897), the Office of Energy Projects has reviewed Shelbyville Hydro LLC's application for an original license for the proposed Lake Shelbyville Dam Hydroelectric Project (FERC Project No. 13011-003) and has prepared an environmental assessment (EA). The project would be located on the Kaskaskia River in Shelby County, Illinois, at an existing dam operated by the U.S. Army Corps of Engineers. The proposed project, if licensed, would occupy a total of 3.24 acres of federal land.

In the EA, Commission staff analyzes the potential environmental effects of licensing the project and concludes that licensing the project, with appropriate environmental protective measures, would not constitute a major federal action that would significantly affect the quality of the human environment.

A copy of the EA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

Any comments should be filed within 30 days from the date of this notice. Comments may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and five copies to: Kimberly D. Bose, Secretary, Federal Energy Regulatory Commission, 888 First Street NE., Washington, DC 20426. Please affix, “Lake Shelbyville Dam Hydroelectric Project, P-13011-003” to all comments.

FOR FURTHER INFORMATION CONTACT: Lesley Kordella by telephone at 202-502-6406 or by email at Lesley.Kordella@ferc.gov.

Dated: June 7, 2013.
Kimberly D. Bose,
Secretary.

[FR Doc. 2013-14060 Filed 6-12-13; 8:45 am]

BILLING CODE 6717-01-P